DEPARTMENT OF STATE

[Public Notice 11779]

60-Day Notice of Proposed Information Collection: Petition To Classify Special Immigrant Under INA 203(b)(4) as an Employee or Former Employee of the U.S. Government Abroad, or the Surviving Spouse or Child of an Employee of the U.S. Government Abroad

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 19, 2022.

ADDRESSES: You may submit comments by any of the following methods:

• Web: Persons with access to the internet may comment on this notice by going to www.Regulations.gov. You can search for the document by entering “Docket Number: DOS-2022-0017 in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Tonya Whigham who may be reached at PRA_BurdenComments@state.gov or at 202-485-7586.

SUPPLEMENTARY INFORMATION:

• Title of Information Collection: Petition to Classify Special Immigrant Under INA 203(b)(4) as an Employee or Former Employee of the U.S. Government Abroad, or the Surviving Spouse or Child of an Employee of the U.S. Government Abroad.

• OMB Control Number: 1405-0082.

• Type of Request: Extension of a Currently Approved Collection.

• Originating Office: CA/VO.

• Form Number: DS-1884.

• Respondents: Aliens petitioning for immigrant visas under INA 203(b)(4) as a special immigrant described in INA section 101(a)(27)(D).

• Estimated Number of Respondents: 600.

• Estimated Number of Responses: 600.

• Average Time per Response: 10 minutes.

• Total Estimated Burden Time: 100 hours.

• Frequency: Once per petition.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

DS-1884 solicits information from applicants claiming employment-based immigrant visa preference under section 203(b)(4) of the Immigration and Nationality Act based on qualification as a special immigrant described in section 101(a)(27)(D) of the Immigration and Nationality Act. An applicant may file the DS-1884 petition within one year of notification by the Department of State that the Secretary has approved a recommendation for special immigrant status. DS-1884 solicits information that will assist the consular officer in ensuring that the applicant is statutorily qualified to receive such status, including meeting the years of service and exceptional service requirements.

Additionally, The Emergency Security Supplemental Appropriations Act (ESSAA), signed into law on July 31, 2021, amends section 101(a)(27)(D) of the Immigration and Nationality Act (INA) to extend eligibility for special immigrant status to the surviving spouse and children of an employee of the United States government abroad, provided the employee performed faithful service for not less than 15 years or was killed in the line of duty regardless of years of service. These provisions are effective as of June 30, 2021, and apply retroactively. Pursuant to INA section 204(a)(1)(G)(ii), applicants seeking classification under INA 203(b)(4) to obtain special immigrant status under INA section 101(a)(27)(D) must file a petition with the Secretary of State by submitting Form DS-1884. Form DS-1884 was amended under emergency authority on April 26, 2022, to accommodate this new category of applicants. The Department is proposing to make these emergency amendments permanent as part of this publication.

Methodology

The applicant can obtain a paper copy of the petition from consular posts abroad. The applicant can obtain an electronic copy through the Department's website, travel.state.gov. The petition available on the Department's website allows an applicant to complete the petition electronically and then submit the completed form to post.

Julie M. Stufft,
Deputy Assistant Secretary, Bureau of Consular Affairs, Department of State.

[FR Doc. 2022-15592 Filed 7-20-22; 8:45 am]

BILLING CODE 4710-06-P